DEPARTMENT OF HOMELAND SECURITY

Federal Emergency Management Agency

[Docket ID: FEMA-2015-0028]

Assistance to Firefighters Grant Program

AGENCY: Federal Emergency Management Agency (FEMA), Department of Homeland Security (DHS).

ACTION: Notice of availability of grant application and application deadline.

SUMMARY: As required by the Federal Fire Prevention and Control Act of 1974, as amended, the Administrator of the Federal Emergency Management Agency (FEMA) is publishing this notice describing the Fiscal Year (FY) 2015 Assistance to Firefighters Grant (AFG) Program application process, deadlines, and award selection criteria. This notice explains the differences, if any, between these guidelines and those recommended by representatives of the national fire service leadership during the annual meeting of the Criteria Development Panel, which was held October 27-28, 2014. The application period for the FY 2015 AFG Program will be held December 7, 2015 through January 15, 2015, and will be announced on the AFG Web site (www.fema.gov/firegrants), as well as www.grants.gov.

DATES: Grant applications for the Assistance to Firefighters Grants will be accepted electronically at https://portal.fema.gov, from December 7, 2015, at 8 a.m. Eastern Standard Time to January 15, 2015, at 5:00 p.m. Eastern Standard Time.

ADDRESSES: Assistance to Firefighters Grants Branch, DHS/FEMA, 800 K Street NW., MS 3620, Washington, DC 20472-3620.

FOR FURTHER INFORMATION CONTACT: Catherine Patterson, Branch Chief, Assistance to Firefighters Grant Branch, 1-866-274-0960.

SUPPLEMENTARY INFORMATION: The AFG Program makes grants directly to fire departments, nonaffiliated emergency medical services (EMS) organizations, and state fire training academies (SFTAs) for the purpose of enhancing the abilities of first responders to protect the health and safety of the public, as well as the first-responder personnel facing fire and fire-related hazards.

Applications for the FY 2015 AFG Program will be submitted and processed online at https://portal.fema.gov. Before the application period starts, the FY 2015 AFG Notice of Funding Opportunity Announcement (NOFO) will be published on the AFG Web site (www.fema.gov/firegrants). Applicants will also be able to access additional information on the AFG Web site, including a list of Frequently Asked Questions (FAQs), a “Get Ready Guide,” and a “Quick Reference Guide.” It is likely that approximately 10,000 to 15,000 applications will be submitted for FY 2015 AFG Program grant funds. FEMA anticipates that it will be able to award approximately 3,000 grants with the available grant funding.

Appropriations

In 2015, Congress appropriated $340,000,000 pursuant to the Department of Homeland Security Appropriations Act, 2014, Public Law 113-6. From this amount, $306,000,000 will be made available for AFG awards. In addition, the authorizing statute requires that a minimum of 10 percent of available funds be expended for Fire Prevention and Safety grants (FP&S), to be made directly to local fire departments and to local, regional, state, or national entities recognized for their expertise in the fields of fire prevention and firefighter safety research and development. Funds appropriated for FY 2015 will be available for obligation and award until September 30, 2016.

The authorizing statute directs FEMA to administer the appropriations according to the following requirements:

• Career (fire department): Not less than 25 percent of available grant funds.

• Volunteer (fire department): Not less than 25 percent of available grant funds.

• Combination (fire department) and departments using paid-on-call firefighting personnel—not less than 25 percent of available grant funds.

• Open Competition: Career, volunteer, and combination fire departments and fire departments using paid-on-call firefighting personnel—not less than 10 percent of available grant funds awarded.

• Emergency Medical Services Providers: Fire departments and nonaffiliated EMS organizations; not less than 3.5 percent of available grants funds awarded, with nonaffiliated EMS providers receiving no more than 2 percent of the total available grant funds.

• State Fire Training Academies (SFTAs): No more than 3 percent of available grant funds shall be collectively awarded to state fire training academy applicants, with a maximum of $500,000 to be awarded per applicant.

• Vehicles: Not more than 25 percent of available grant funds may be used for the purchase of vehicles; 10 percent of the total vehicle funds will be dedicated to funding ambulances. The allocation of funding will be distributed as equally as possible among urban, suburban, and rural community applicants. The remaining Vehicle Acquisition funds will be awarded competitively without regard to community classification.

• Micro Grants: This is a voluntary funding limitation choice made by the applicant for requests submitted for Operations and Safety Grant Component Program; it is not an additional funding opportunity. Micro Grants are awards that have a federal participation (share) that does not exceed $25,000. Only fire departments and nonaffiliated EMS organizations are eligible to choose Micro Grants, and the only eligible Micro Grants activities are Training, Equipment, PPE, and Wellness and Fitness. Applicants that select Micro Grants as a funding opportunity may receive additional consideration for award. If an applicant selects Micro Grants in their application, they will be limited in the total amount of funding their organization can be awarded; if they are requesting funding in excess of $25,000 federal participation, they should not select Micro Grants.

Background of the AFG Program

Since 2001, the AFG Program has helped firefighters and other first responders to obtain critically needed equipment, protective gear, emergency vehicles, training, and other resources needed to protect the public and emergency personnel from fire and related hazards. FEMA awards the grants on a competitive basis to the applicants that best address the AFG Program's priorities and provide the most compelling justification. Applications that best address the Program's priorities will be reviewed by a panel composed of fire service personnel.

Application Evaluation Criteria

Prior to making a grant award, FEMA is required by 31 U.S.C. 3321 and 41 U.S.C. 2313 to review information available through any Office of Management and Budget (OMB)-designated repositories of government-wide eligibility qualification or financial integrity information. Therefore, application evaluation criteria may include the following risk based considerations of the applicant: (1) Financial stability; (2) quality of management systems and ability to meet management standards; (3) history of performance in managing federal award; (4) reports and findings from audits; and (5) ability to effectively implement statutory, regulatory, or other requirements.

FEMA will rank all complete and submitted applications based on how well they match program priorities for the type of jurisdiction(s) served. Answers to activity-specific questions provide information used to determine each application's ranking relative to the stated program priorities.

Funding priorities and criteria for evaluating AFG applications are established by FEMA based on the recommendations from the Criteria Development Panel (CDP). The CDP is comprised of fire service professionals that make recommendations to FEMA regarding the creation of new or the modification of previously established funding priorities, as well as developing criteria for awarding grants. The content of the NOFO reflects implementation of the CDP's recommendations with respect to the priorities and evaluation criteria for awards.

The nine major fire service organizations represented on the CDP are:

• International Association of Fire Chiefs

• International Association of Fire Fighters

• National Volunteer Fire Council

• National Fire Protection Association

• National Association of State Fire Marshals

• International Association of Arson Investigators

• International Society of Fire Service Instructors

• North American Fire Training Directors

• Congressional Fire Service Institute

Review and Selection Process

AFG applications are reviewed through a multi-phase process. First, applications are electronically pre-scored and ranked; then scored competitively by (no less than three) members of the Peer Review Panel. Applications are also evaluated through a series of internal FEMA review processes for completeness, adherence to programmatic guidelines, technical feasibility, and anticipated effectiveness of the proposed project(s). The review process is outlined below:

1. Pre-Scoring Process

The application undergoes an electronic pre-scoring process based on established program priorities listed within the NOFO. Application narratives are not reviewed during pre-scoring. Request details and budget information should comply with program guidance and statutory funding limitations. The pre-score is 50 percent of the total application score.

2. Peer Review Panel Process

Applications with the highest pre-score will be evaluated by a peer review process. The peer review is comprised of fire service representatives recommended by CDP national organizations. The panelists assess the merits of each application with respect to the detail provided in the narrative section of the application, including the evaluation elements listed in the Narrative Evaluation Criteria below. The panel will independently score each project within the application, discuss the merits and/or shortcomings of the application, and document its findings. A consensus is not required. The panel score is 50 percent of the total application score.

3. Technical Evaluation Process

The highest ranked applications are deemed within the fundable range. Applications that are in the fundable range undergo both a technical review by a subject matter expert (SME), as well as a FEMA program office review prior to being recommended for award. The FEMA program office will assess the request with respect to costs, quantities, feasibility, eligibility, and recipient responsibility prior to recommending an application for award.

Once the technical evaluation process is complete, the cumulative score for each application will be determined and a final ranking of applications will be generated. FEMA will award grants based on this final ranking and the required funding limitations in statute.

Narrative Evaluation Criteria

1. Financial Need (25%)

Applicants should describe their financial need and how consistent it is with the intent of the AFG Program. This statement should include details describing the applicant's financial distress, summarizing budget constraints, unsuccessful attempts to secure other funding, and proving the financial distress is out of their control.

2. Project Description and Budget (25%)

This statement should clearly explain the applicant's project objectives and the relationship between those objectives and the applicant's budget and risk analysis. The applicant should describe the various activities applied for with respect to any program priority or facility modifications, ensuring they are consistent with project objectives, the applicant's mission, and any national, state, and/or local requirements. Applicants should link the proposed expenses to operations and safety, as well as the completion of the project goals

3. Operations and Safety/Cost Benefit (25%)

Applicants should describe how they plan to address the operations and personal safety needs of their organization, including cost effectiveness and sharing assets. This statement should also include details about gaining the maximum benefits from grant funding by citing reasonable or required costs, such as specific overhead and administrative costs. The applicant's request should also be consistent with their mission and identify how funding will benefit their organization and personnel.

4. Statement of Effect/Impact on Daily Operations (25%)

This statement should explain how this funding request will enhance the organization's overall effectiveness. It should address how this request will improve daily operations and reduce the organization's common risk(s). Applicants should include how frequently the requested item(s) will be used and in what capacity. Applicants should also indicate how the requested item(s) will help the community and increase the organization's ability to save additional lives and property.

Eligible Applicants

Fire Departments: Fire departments operating in any of the 56 states, which includes any state of the United States, the District of Columbia, the Commonwealth of the Northern Mariana Islands, the U.S. Virgin Islands, Guam, American Samoa, the Commonwealth of Puerto Rico; or, any federally recognized Indian tribe or tribal organization are eligible applicants. A fire department is an agency or organization having a formally recognized arrangement with a state, territory, local, or tribal authority (city, county, parish, fire district, township, town, or other governing body) to provide fire suppression to a population within a geographically fixed primary first due response area.

Nonaffiliated EMS organizations: Nonaffiliated EMS organizations operating in any of the 56 states, which includes any state of the United States, the District of Columbia, the Commonwealth of the Northern Mariana Islands, the U.S. Virgin Islands, Guam, American Samoa, the Commonwealth of Puerto Rico; or, any federally recognized Indian tribe or tribal organization are eligible applicants. A nonaffiliated EMS organization is an agency or organization that is a public or private nonprofit emergency medical services entity providing medical transport, that is not affiliated with a hospital and does not serve a geographic area in which emergency medical services are adequately provided by a fire department.

FEMA considers the following as hospitals under the AFG program:

• Clinics

• Medical centers

• Medical college or university

• Infirmary

• Surgery centers

• Any other institution, association, or foundation providing medical, surgical, or psychiatric care and/or treatment for the sick or injured.

State Fire Training Academies: A state fire training academy (SFTA) operating in any of the 56 states, which includes any state of the United States, the District of Columbia, the Commonwealth of the Northern Mariana Islands, the U.S. Virgin Islands, Guam, American Samoa, and the Commonwealth of Puerto Rico is an eligible applicant. Applicants must be designated either by legislation or by a Governor's declaration as the sole state fire service training agency within a state. The designated SFTA shall be the only state agency/bureau/division, or entity within that state, to be an eligible AFG SFTA applicant.

Ineligibility

• FEMA considers two or more separate fire departments or nonaffiliated EMS organizations sharing facilities as being one organization. If two or more organizations share facilities, and each organization submits an application in the same program area, FEMA may deem all of those program area applications to be ineligible to avoid any duplication of benefits.

• Fire-based EMS organizations are not eligible to apply as nonaffiliated EMS organizations. Fire-based EMS training and equipment must be requested by a fire department under the AFG component program Operations and Safety.

Statutory Limits to Funding

Congress has enacted statutory limits to the amount of funding that a grantee may receive from the AFG Program in any single fiscal year (15 U.S.C. 2229(c)(2)) based on the population served. Awards will be limited based on the size of the population protected by the applicant, as indicated below. Notwithstanding the annual limits stated below, the FEMA Administrator may not award a grant in an amount that exceeds one percent of the available grants funds in such fiscal year, except where it is determined that such recipient has an extraordinary need for a grant in an amount that exceeds the one percent aggregate limit.

• In the case of a recipient that serves a jurisdiction with 100,000 people or fewer, the amount of available grant funds awarded to such recipient shall not exceed $1 million in any fiscal year.

• In the case of a recipient that serves a jurisdiction with more than 100,000 people but not more than 500,000 people, the amount of available grant funds awarded to such recipient shall not exceed $2 million in any fiscal year.

• In the case of a recipient that serves a jurisdiction with more than 500,000 but not more than 1 million people, the amount of available grant funds awarded to such recipient shall not exceed $3 million in any fiscal year.

• In the case of a recipient that serves a jurisdiction with more than 1 million people but not more than 2,500,000 people, the amount of available grant funds awarded to such recipient shall not exceed $6 million for any fiscal year, but is subject to the one percent aggregate cap of $3,400,000 for FY 2015.

• In the case of a recipient that serves a jurisdiction with more than 2,500,000 people, the amount of available grant funds awarded to such recipient shall not exceed $9 million in any fiscal year, but is subject to the one percent aggregate cap of $3,400,000 for FY 2015.

• FEMA may not waive the caps on the maximum amount of available grant funds awarded based upon population.

The cumulative total of the federal share of awards in Operations and Safety, Regional and Vehicle Acquisition activities will be considered when assessing award amounts and any limitations thereto. Applicants may request funding up to the statutory limit on each of their applications.

For example, an applicant that serves a jurisdiction with more than 100,000 people but not more than 500,000 people may request up to $2 million on their Operations and Safety Application and up to $2 million on their Vehicle Acquisition Request. However, should both grants be awarded, the applicant would have to choose which award to accept if the cumulative value of both applications exceeds the statutory limits.

Cost Sharing and Maintenance of Effort

Grantees must share in the costs of the projects funded under this grant program as required by 15 U.S.C. 2229(k)(1) and in accordance with applicable federal regulations governing grants in effect at the time a grant is awarded to a grantee, but they are not required to have the cost-share at the time of application nor at the time of award. However, before a grant is awarded, FEMA will contact potential awardees to determine whether the grantee has the funding in hand or if the grantee has a viable plan to obtain the funding necessary to fulfill the cost-sharing requirement.

In general, an eligible applicant seeking a grant shall agree to make available non-federal funds equal to not less than 15 percent of the grant awarded. However, the cost share will vary as follows based on the size of the population served by the organization:

• Applicants serving areas with populations above 20,000 but not more than 1 million shall agree to make available non-federal funds equal to not less than 10 percent of the total project cost.

• Applicants that serve populations of 20,000 or less must match the Federal grant funds with an amount of non-federal funds equal to 5 percent of the total project cost.

The cost share of state fire training academies and joint/regional projects will be based on the entire state or region, not the population of the host organization.

On a case by case basis, FEMA may allow grantees that already own assets (equipment or vehicles) to use the trade-in allowance/credit value of those assets as “cash” for the purpose of meeting the cost-share obligation of their AFG award. In-kind cost-share matches are not allowed.

Grant recipients under this grant program must also agree to a maintenance of effort requirement as required by 15 U.S.C. 2229(k)(3) (referred to as a “maintenance of expenditure” requirement in that statute). A grant recipient shall agree to maintain during the term of the grant the applicant's aggregate expenditures relating to the activities allowable under the NOFO at not less than 80 percent (80%) of the average amount of such expenditures in the two (2) fiscal years preceding the fiscal year in which the grant amounts are received.

In cases of demonstrated economic hardship, and on the application of the grant recipient, the Administrator of FEMA may waive or reduce a grant recipient's cost share requirement or maintenance of expenditure requirement. As required by statute, the Administrator of FEMA has established guidelines for determining what constitutes economic hardship and published these guidelines at FEMA's Web site (www.fema.gov/grants).

Prior to the start of the FY 2015 AFG application period, FEMA will conduct applicant workshops and/or Internet webinars to inform potential applicants about the AFG Program. In addition, FEMA will provide applicants with information at the AFG Web site (www.fema.gov/firegrants) to help them prepare quality grant applications. The AFG Help Desk will be staffed throughout the application period to assist applicants with the automated application process as well as assistance with any questions they have. Applicants can reach the AFG Help Desk through a toll-free telephone number (1-866-274-0960) or electronic mail (firegrants@dhs.gov).

Application Process

Organizations may submit one application per application period in each of the three AFG Program areas, e.g., one application for Operations and Safety, one for Vehicle Acquisition, and/or a separate application to be a Joint/Regional Project host. If an organization submits more than one application for any single AFG Program area, e.g., two applications for Operations and Safety, two for Vehicles, etc.; either intentionally or unintentionally, FEMA will deem all applications submitted by that organization for the particular program to be ineligible for funding.

Applicants will be advised to access the application electronically at https://portal.fema.gov. The application will also be accessible from the U.S. Fire Administration's Web site (http://www.usfa.fema.gov) and http://www.grants.gov. New applicants will be required to register and establish a username and password for secure access to their application. Applicants that applied for any previous AFG funding opportunities will be required to use their previously established usernames and passwords.

In completing the application, applicants will be asked to provide relevant information on their organization's characteristics, call volume, and existing capabilities. Applicants will be asked to answer questions about their grant request that reflect the AFG funding priorities, which are described below. In addition, each applicant must complete four separate narratives for each project or grant activity requested.

System for Award Management (SAM)

In 2012, the System for Award Management (SAM) replaced the Central Contractor Registry (CCR). Per 2 CFR 25.200, all grant applicants and recipients are now required to register in https://SAM.gov, which is available free of charge. They must maintain validated information in SAM that is consistent with the data provided in their AFG grant application and in the Dun & Bradstreet (DUNS) database. AFG will not accept any application, process any awards, consider any payment or amendment requests, or consider any amendment until the applicant or grantee has complied with the requirements to provide a valid DUNS number and an active SAM registration with current information. The banking information, employer identification number (EIN), organization/entity name, address, and DUNS number provided in the application must match the information that provided in SAM.

Changes to Criteria Development Panel (CDP) Recommendations

FEMA must explain any differences between the published guidelines and the recommendations made by the CDP and publish this information in the Federal Register prior to making any grants under the AFG Program. For FY 2015, FEMA accepted and is implementing all of the CDP's recommendations.

New for FY 2015

Uniform Administrative Requirements, Cost Principles, and Audit Requirements for Federal Awards—On December 26, 2014, DHS adopted the Office of Management and Budget's (OMB) Uniform Administrative Requirements, Cost Principles, and Audit Requirements for Federal Awards in 2 CFR part 200 that establishes a uniform set of mandatory requirements for federal awards to non-federal entities. These requirements apply to all awards made after December 26, 2014, including all FY 2014 and FY 2015 AFG awards. This regulation (also commonly referred to as the “Super Circular” or “Omni Circular”) is available at: http://www.ecfr.gov/cgi-bin/text-idx?SID=c1e355be139798e0c2583b0136a0fae7&mc=true&tpl=/ecfrbrowse/Title02/2cfrv1_02.tpl#0.

A crosswalk that highlights policy changes, clarifications, and updates to policy provisions, is available at: https://www.whitehouse.gov/sites/default/files/omb/fedreg/2013/uniform-guidance-crosswalk-from-predominate-source-in-existing-guidance.pdf.

Equipment Priorities for Nonaffiliated EMS Organizations—As the basic mission of nonaffiliated EMS organizations is to provide Basic Life Support (BLS)/Advanced Life Support (ALS) care and transport in support of the public and emergency responders; all rescue/extrication equipment will now be considered a Medium priority for EMS organizations.

Product Lifecycles—Historically, for most eligible equipment (i.e., hose, ladders, hand tools, etc.), the highest funding priority is for equipment that is 15 years or older in age, or obsolete by default per a recognized standard (e.g., NFPA 1851: Standard on Selection, Care, and Maintenance of Protective Ensembles for Structural Fire Fighting and Proximity Fire Fighting). However, for FY 2015, the useful operational life of EMS technology-based equipment has been adjusted to an 8-year replacement lifecycle in many cases.

Transitioning Titles in Emergency Medical Services—The US Department of Transportation, under the National EMS Scope of Practice Model, is in the process of changing titles for EMS providers. Under this program, the titles below are changing, and FEMA will incorporate these changes into each grant cycle.

• First Responder to Emergency Medical Responder (EMR)

• Emergency Medical Technician-Basic (EMT-B) to Emergency Medical Technician (EMT)

• Emergency Medical Technician Intermediate/85 (EMT-I) to Advanced EMT (AEMT)

• Emergency Medical Technician Intermediate/99 to Paramedic

• EMT-Paramedic (EMT-P) to Community Paramedics (Paramedics with Primary Care certification)

Funding Priorities

The funding priorities, recommended by a panel of representatives from the nation's fire service leadership, have been accepted by DHS for the purposes of implementing the AFG Program, are outlined in the Fiscal Year 2015 Notice of Funding Opportunity. Graphical charts, with rating criteria, have been created to easily depict whether activities were a (H) High, (M) Medium or (L) Low funding priority. These rating criteria provide an understanding of the AFG Program's priorities and the expected cost-effectiveness of any proposed project(s).

Administrative Costs

Panelists will assess the administrative costs requested in each application and determine whether the request is reasonable and in the best interest of the Program.

Authority: 15 U.S.C. 2229.

Dated: December 12, 2015.
W. Craig Fugate,
Administrator, Federal Emergency Management Agency.

[FR Doc. 2015-31905 Filed 12-21-15; 8:45 am]

BILLING CODE 9111-78-P